ENVIRONMENTAL PROTECTION AGENCY

40 CFR Parts 52 and 81

[EPA-R10-OAR-2014-0808; FRL 9922-81-Region 10]

Approval and Promulgation of Air Quality Implementation Plans; Washington; Redesignation to Attainment for the Tacoma-Pierce County Nonattainment Area and Approval of Associated Maintenance Plan for the 2006 24-Hour Fine Particulate Matter Standard

AGENCY: Environmental Protection Agency.

ACTION: Final rule.

SUMMARY: The Environmental Protection Agency (EPA) is redesignating to attainment the entire Tacoma-Pierce County nonattainment area (hereafter “the Tacoma area” or “the area”) for the 2006 24-hour fine particulate matter (PM2.5) national ambient air quality standard (NAAQS). The EPA is also approving as a revision to the Washington State Implementation Plan (SIP), the associated maintenance plan that provides for continued compliance of the 2006 24-hour PM2.5 NAAQS. Additionally, the EPA is approving the 2017 and 2026 motor vehicle emissions budgets included in Washington's maintenance plan for PM2.5 and nitrogen oxides.

DATES: This final rule is effective on March 12, 2015.

ADDRESSES: The EPA has established a docket for this action under Docket ID No. EPA-R10-OAR-2014-0808. All documents in the docket are listed on the www.regulations.gov Web site. Although listed in the index, some information is not publicly available, e.g., Confidential Business Information (CBI) or other information the disclosure of which is restricted by statute. Certain other material, such as copyrighted material, is not placed on the Internet and will be publicly available only in hard copy form. Publicly available docket materials are available either electronically through www.regulations.gov or in hard copy at the Air Programs Unit, Office of Air Waste and Toxics, EPA Region 10, 1200 Sixth Avenue, Seattle, WA 98101. The EPA requests that if at all possible, you contact the individual listed in the FOR FURTHER INFORMATION CONTACT section to view the hard copy of the docket. You may view the hard copy of the docket Monday through Friday, 8:00 a.m. to 4:00 p.m., excluding Federal holidays.

FOR FURTHER INFORMATION CONTACT: Jeff Hunt at (206) 553-0256, hunt.jeff@epa.gov, or by using the above EPA, Region 10 address.

SUPPLEMENTARY INFORMATION:

Definitions

For the purpose of this document, we are giving meaning to certain words or initials as follows:

(i) The words or initials “Act” or “CAA” mean or refer to the Clean Air Act, unless the context indicates otherwise.

(ii) The words “EPA,” “we,” “us” and “our” mean or refer to the Environmental Protection Agency.

(iii) The initials “SIP” mean or refer to State Implementation Plan.

(iv) The words “Washington” and “State” mean the State of Washington.

Table of Contents

I. Background Information

II. Final Action

III. Statutory and Executive Orders Review

I. Background Information

The first air quality standards for PM2.5 were established on July 16, 1997 (62 FR 38652, July 18, 1997). The EPA promulgated an annual standard at a level of 15 micrograms per cubic meter (μg/m³), based on a three-year average of annual mean PM2.5 concentrations (the 1997 annual PM2.5 standard). In the same rulemaking action, the EPA promulgated a 24-hour standard of 65 μg/m³, based on a three-year average of the 98th percentile of 24-hour concentrations. On October 17, 2006 (71 FR 61144), the EPA retained the annual average standard at 15 μg/m³, but revised the 24-hour standard to 35 μg/m³, based again on the three-year average of the 98th percentile of 24-hour concentrations (the 2006 24-hour PM2.5 standard or daily standard). On November 13, 2009, the EPA published designations for the 2006 24-hour PM2.5 NAAQS, which became effective on December 14, 2009 (74 FR 58688). In that rulemaking action, the EPA designated the Tacoma area as nonattainment for the 2006 24-hour PM2.5 NAAQS (see 77 FR 58774 and 40 CFR 81.348).

On September 4, 2012, the EPA determined that the Tacoma area had attained the 2006 24-hour PM2.5 NAAQS based upon complete, quality-controlled, certified 2009-2011 ambient air monitoring data available in the EPA's Air Quality System database (77 FR 53772). Pursuant to 40 CFR 51.1004(c), in effect at that time, the requirements for the Tacoma area to submit an attainment demonstration and associated reasonably available control measures, a reasonable further progress plan, contingency measures, and other planning SIPs related to the attainment of the 2006 24-hour PM2.5 NAAQS are suspended until such time as: The area is redesignated to attainment, at which time the requirements no longer apply; or the EPA determines that the area has again violated the standard, at which time such plans are required to be submitted. On September 19, 2013, the EPA finalized a subsequent determination of attainment, updated with 2010-2012 data, considering the effect of the D.C. Circuit Court's January 4, 2013 decision to remand the implementation rule containing the provisions of 40 CFR 51.1004(c) on the area (78 FR 57503). Natural Resources Defense Council v. EPA, 706 F.3d 428 (2013). A full description of the EPA's rationale for the determination of attainment is contained in the proposal for that action (78 FR 42095, July 18, 2013).

A determination of attainment does not relieve a state from submitting, and the EPA from approving, certain planning SIP revisions for the 2006 PM2.5 NAAQS. On November 28, 2012, Washington submitted a 2008 baseline emissions inventory for direct PM2.5 and precursors to the formation of PM2.5 including nitrogen oxides (NOX), volatile organic compounds (VOCs), ammonia (NH3), and sulfur dioxide (SO2) to meet the comprehensive emissions inventory requirement of Clean Air Act (CAA) section 172(c) for the 2006 24-hour PM2.5 NAAQS. Also included in Washington's submittal were SIP strengthening rules to implement the recommendations of the Tacoma-Pierce County Clean Air Task Force, an advisory committee of community leaders, citizen representatives, public health advocates, and other affected parties, formed to develop PM2.5 reduction strategies. These SIP strengthening rules were focused on controlling PM2.5 emissions from residential wood combustion, which at that time comprised 74% of direct PM2.5 emissions on winter days when 24-hour PM2.5 NAAQS exceedances were most likely. The EPA approved the 2008 baseline emissions inventory and SIP strengthening rules on May 29, 2013 (78 FR 32131).

On November 3, 2014, Ecology submitted a request to redesignate the Tacoma area from nonattainment to attainment for the 2006 24-hour PM2.5 NAAQS. The submittal included a maintenance plan as a SIP revision to ensure continued attainment of the standard over the next 10 years. On December 11, 2014, the EPA proposed to redesignate the entire Tacoma area, including tribal trust and non-trust lands, from nonattainment to attainment for the 2006 24-hour PM2.5 NAAQS (79 FR 73525).¹ The EPA also proposed to approve the associated maintenance plan, including motor vehicle emission budgets for 2017 and 2026. An explanation of the CAA requirements, a detailed explanation of the revisions, and the EPA's reasons for approval were provided in the notice of proposed rulemaking, and will not be restated here. The public comment period for the proposed rule ended on January 12, 2015. We did not receive any comments on the proposal.

¹ Control measures on tribal trust land will continue to be regulated pursuant to 40 CFR part 49, which includes the Federal Implementation Plans under the Clean Air Act for Indian Reservations in Idaho, Oregon and Washington (70 FR 18074, April 8, 2005) and Review of New Sources and Modifications in Indian Country (76 FR 38748, July 1, 2011).

II. Final Action

The EPA is changing the official designation of the Tacoma area for the 2006 24-hour PM2.5 NAAQS found at 40 CFR part 81, from nonattainment to attainment, because the area meets the criteria set forth in CAA section 107(d)(3)(E). This final action was reached after offering consultation to the Puyallup Tribe of Indians and after reviewing technical analyses, emissions inventories, and monitoring data covering the entire area, including tribal trust and non-trust lands as described in the proposed rule. The EPA is also approving and incorporating into the Washington SIP the associated maintenance plan ensuring continued attainment of the 2006 24-hour PM2.5 NAAQS in the area for the next 10 years. For transportation conformity purposes, the EPA is approving the 2017 and 2026 motor vehicle emissions budgets included in Washington's maintenance plan for PM2.5 and nitrogen oxides.

III. Statutory and Executive Orders Review

Under the CAA, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because this action does not involve technical standards; and

• Does not provide the EPA with the discretionary authority to address, as appropriate, disproportionate human health or environmental effects, using practicable and legally permissible methods, under Executive Order 12898 (59 FR 7629, February 16, 1994).

The SIP is not approved to apply on any Indian reservation land in Washington except for as specifically noted below and is also not approved to apply in any other area where the EPA or an Indian tribe has demonstrated that a tribe has jurisdiction. In those areas of Indian country, the rule does not have tribal implications as specified by Executive Order 13175 (65 FR 67249, November 9, 2000), nor will it impose substantial direct costs on tribal governments or preempt tribal law. Washington's SIP is approved to apply on non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area. Consistent with EPA policy, the EPA provided a consultation opportunity to the Puyallup Tribe in a letter dated September 8, 2014. The EPA did not receive a request for consultation.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 13, 2015. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Nitrogen dioxide, Particulate matter, Reporting and recordkeeping requirements, Sulfur dioxide.

40 CFR Part 81

Environmental protection, Air pollution control, National parks, Wilderness areas.

Dated: January 28, 2015.
Dennis J. McLerran,
Regional Administrator, Region 10.

40 CFR parts 52 and 81 are amended as follows:

PART 52—APPROVAL AND PROMULGATION OF IMPLEMENTATION PLANS

1. The authority citation for Part 52 continues to read as follows:

Authority: 42 U.S.C. 7401 et seq.

Subpart WW—Washington

2. In § 52.2470, in paragraph (e), Table 2, is amended by adding at the end of the table a section heading entitled “Recently Approved Plans” followed by the entry entitled “Particulate Matter (PM2.5) Maintenance Plan” to read as follows:

§ 52.2470 Identification of plan.

* * * * *

(e) * * *

Table 2—Attainment, Maintenance, and Other Plans
Name of SIP provision | Applicable geographic or nonattainment area | State submittal date | EPA Approval date | Comments
* * * * * * *
Recently Approved Plans
Particulate Matter (PM2.5) Maintenance Plan | Tacoma, Pierce County | 11/03/14 | 2/10/15 [insert Federal Register citation]

* * * * *

PART 81—DESIGNATION OF AREAS FOR AIR QUALITY PLANNING PURPOSES

3. The authority citation for part 81 continues to read as follows:

Authority: 42 U.S.C. 7401 et seq.

4. In § 81.348 amend in the table entitled “Washington—2006 24-Hour PM2.5 NAAQS” by revising the entry for “Tacoma, WA” and footnote 2 to read as follows:

§ 81.348 Washington.

* * * * *

Washington—2006 24-Hour PM2.5 NAAQS
[Primary and secondary]
Designated area | Designation ᵃ: Date ¹ | Designation ᵃ: Type | Classification: Date ² | Classification: Type
Tacoma, WA
Pierce County (part) | 3/12/15 | Attainment
Starting from where an extension of Kennedy Road Northeast would intersect Commencement Bay, proceed north to the intersection of Marine View Drive (State Route 509) and Kennedy Road Northeast. Proceed south on Marine View Drive to Hylebos Creek. Proceed south along Hylebos Creek to 12th Street East. Proceed east on 12th Street East to 70th Avenue East. Proceed south on 70th Avenue East to State Route 99 (S.R. 99). Proceed north on S.R. 99 0.1 mile north of Birch Street to a driveway to the east. Proceed east along the driveway and continue east along the same alignment to the Pierce County Line/Comprehensive Urban Growth Area (CUGA) boundary. Proceed east along the Pierce County Line/CUGA boundary to the eastern boundary of Edgewood. Proceed south along the eastern boundary of Edgewood to eastern boundary of the Sumner Urban Service Area. Proceed south along eastern boundary of the Sumner Urban Service Area to the eastern boundary of the Puyallup Urban Service Area. Proceed south along the eastern boundary of the Puyallup Urban Service Area to the eastern boundary of Puyallup/CUGA boundary. Proceed south and then west along the CUGA boundary to the eastern boundary of McChord Air Force Base. Proceed north along the eastern boundary of McChord Air Force Base to the northernmost point on the eastern boundary. Proceed from the northernmost point on the eastern boundary of McChord Air Force Base to the south right-of-way of S.R. 512. Proceed west along the south right-of-way of S.R. 512 to the south right-of-way of I-5. Proceed south along the south right-of-way to I-5 to the point opposite the boundary between Lakewood and Camp Murray. Proceed north across I-5 to the boundary between Lakewood and Camp Murray. Proceed north along the western boundary of Lakewood to the point where the western boundary coincides with the CUGA boundary. Proceed north along the CUGA boundary to the southern boundary of Point Defiance Park. Proceed east along the southern boundary of Point Defiance Park to Commencement Bay/CUGA boundary. Proceed southeast, then northeast, and finally northwest along the CUGA boundary to the starting point
* * * * * * *
ᵃ Includes Indian Country located in each county or area, except as otherwise specified.
¹ This date is 30 days after November 13, 2009, unless otherwise noted.
² This date is July 2, 2014, unless otherwise noted.

* * * * *

[FR Doc. 2015-02619 Filed 2-9-15; 8:45 am]

BILLING CODE 6560-50-P